DEPARTMENT OF COMMERCE

National Oceanic and Atmospheric Administration

RIN 0648-XV070

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a one-day meeting of its Outreach & Education Technical Committee.

DATES: The meeting will convene on Wednesday, October 9, 2019, from 8:30 a.m. to 5 p.m., EDT. For agenda details, see SUPPLEMENTARY INFORMATION.

ADDRESSES: The meeting will be held at the Tradewinds Island Resort, located at 5600 Gulf Boulevard, St. Petersburg Beach, FL; telephone: (727) 363-2215.

Council address: Gulf of Mexico Fishery Management Council, 4107 W. Spruce Street, Suite 200, Tampa, FL 33607; telephone: (813) 348-1630.

FOR FURTHER INFORMATION CONTACT: Emily Muehlstein, Public Information Officer, Gulf of Mexico Fishery Management Council; emily.muehlstein@gulfcouncil.org, telephone: (813) 348-1630. The Council's website, www.gulfcouncil.org also has details on the meeting location, proposed agenda, webinar listen-in access, and other materials.

SUPPLEMENTARY INFORMATION: The following items are on the agenda, though agenda items may be addressed out of order (changes will be noted on the Council's website when possible.)

Wednesday, October 9, 2019; 8:30 a.m.-5 p.m.

Introductions of members, election of new chair, adoption of agenda, and approval of minutes from the May 2018 meeting summary. The committee will hear presentations on “Recreational Angler Perceptions Regarding the Use of Descending Devices in Southeast Reef Fish Fisheries” and “Barotrauma Mitigation and the Power of Subjective Norms in Florida's Reef Fish Fisheries.” The committee will review and discuss Gulf-wide Outreach/Communications Strategies to Reduce Barotrauma in Recreational Fisheries; Highlight specific approaches for For-Hire and private fleets and identify specific influencers across the region (media, business, and community leaders). The Committee will review the Council's new “Fishing for Our Future” best practices website and hear a presentation on the Gulf Council's Communications Analytics. The committee will discuss any Other Business items.

— Meeting Adjourns

The meeting will be broadcast via webinar. You may register for the listen-in access by visiting www.gulfcouncil.org and clicking on the meeting on the calendar.

The Agenda is subject to change, and the latest version along with other meeting materials will be posted on www.gulfcouncil.org as they become available.

Although other non-emergency issues not on the agenda may come before the group for discussion, in accordance with the Magnuson-Stevens Fishery Conservation and Management Act (Magnuson-Stevens Act), those issues may not be the subject of formal action during this meeting. Actions will be restricted to those issues specifically identified in this notice and any issues arising after publication of this notice that require emergency action under section 305(c) of the Magnuson-Stevens Act, provided the public has been notified of the Council's intent to take action to address the emergency.

Special Accommodations

This meeting is physically accessible to people with disabilities. Requests for sign language interpretation or other auxiliary aids should be directed to Kathy Pereira at the Gulf Council Office (see ADDRESSES), at least 5 working days prior to the meeting.

Dated: September 11, 2019.
Tracey L. Thompson,
Acting Deputy Director, Office of Sustainable Fisheries, National Marine Fisheries Service.

[FR Doc. 2019-19961 Filed 9-13-19; 8:45 am]

BILLING CODE 3510-22-P